DEPARTMENT OF TRANSPORTATION

Federal Aviation Administration

14 CFR Part 39

[Docket No. FAA-2011-0991; Directorate Identifier 2010-NM-134-AD]

RIN 2120-AA64

Airworthiness Directives; the Boeing Company Airplanes

AGENCY: Federal Aviation Administration (FAA), Department of Transportation (DOT).

ACTION: Notice of proposed rulemaking (NPRM).

SUMMARY: The FAA proposes to supersede an existing airworthiness directive (AD) that applies to certain Model 747-100, 747-100B, 747-200B, 747-200C, 747-200F, 747-400F, 747SR, and 747SP series airplanes, without a stretched upper deck or stretched upper deck modification. The existing AD currently requires repetitive inspections for cracks of each affected tension tie and of the surrounding structure, and related investigative and corrective actions if necessary. This proposed AD would also require, for certain airplanes, modifying the tension tie structure or tension tie and frame structure at certain stations; and a post-modification inspection of the modified area and post-modification repetitive inspections of the unmodified area, and repair if necessary. Doing the modification would terminate the repetitive inspection requirements in the existing AD. This proposed AD would reduce the compliance time and add inspections for certain airplanes. This proposed AD results from reports that certain airplanes have tension ties that are susceptible to widespread fatigue damage. This proposed AD also results from reports of cracks on the forward and aft tension tie channels at station (STA) 740 and STA 760, and a determination that initial inspection intervals need to be reduced. We are proposing this AD to prevent tension ties from becoming severed or disconnected from the frames, which could lead to rapid in-flight decompression.

DATES: We must receive comments on this proposed AD by November 7, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Steven Fox, Senior Aerospace Engineer, Airframe Branch, ANM-120S, FAA, Seattle Aircraft Certification Office (ACO), 1601 Lind Avenue, SW., Renton, Washington 98057-3356; phone: (425) 917-6425; fax: (425) 917-6590; e-mail: steven.fox@faa.gov.

SUPPLEMENTARY INFORMATION:

Comments Invited

We invite you to send any written relevant data, views, or arguments about this proposed AD. Send your comments to an address listed under the ADDRESSES section. Include “Docket No. FAA-2011-0991; Directorate Identifier 2010-NM-134-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On December 30, 2005, we issued AD 2006-01-07, Amendment 39-14446 (71 FR 1947, January 12, 2006), for certain Model 747-100, 747-100B, 747-200B, 747-200C, 747-200F, 747-400F, 747SR, and 747SP series airplanes. That AD requires detailed and high-frequency eddy current (HFEC) inspections for cracks of each affected tension tie and of the surrounding structure, and related investigative and corrective actions if necessary. That AD resulted from a report of a crack in the tension tie at the body station (BS) 820 frame connection, and cracks found on the Boeing 747SR fatigue-test airplane in both the tension ties and frames at the tension tie to frame connections at BS 800, 820, and 840. We issued that AD to find and fix cracks in the tension ties, which could lead to cracks in the skin and body frame and result in rapid in-flight depressurization of the airplane.

Actions Since Existing AD Was Issued

The preamble to AD 2006-01-07, Amendment 39 14446 (71 FR 1947, January 12, 2006), specifies that we consider the requirements to be “interim action” and that the manufacturer was developing a modification to address the unsafe condition. That AD explains that we might consider further rulemaking if a modification is developed, approved, and available. The manufacturer now has developed such a modification, and we have determined that further rulemaking is indeed necessary; this proposed AD follows from that determination.

This proposed AD also results from reports of cracks on the forward and aft tension tie channels at station (STA) 740 and STA 760 on a Model 747-400F airplane, and a determination that initial inspection compliance times need to be reduced.

Relevant Service Information

AD 2006-01-07, Amendment 39-14446 (71 FR 1947, January 12, 2006), refers to Boeing Special Attention Service Bulletin 747-53-2502, dated April 21, 2005, as the appropriate source of service information for doing the required actions. We have reviewed Boeing Alert Service Bulletin 747-53A2502, Revision 1, dated June 17, 2010. For Group 2 airplanes, Boeing Alert Service Bulletin 747-53A2502, Revision 1, dated June 17, 2010, reduces the compliance time for the detailed and HFEC inspections of the tension ties; adds a one-time general visual inspection of the tension ties for correct configuration; adds a detailed and open fastener-hole HFEC inspection for cracks in the tension tie and frame if an incorrect configuration is found; and adds repair of the cracked tension tie, or instructions to contact Boeing for repair instructions.

We have also reviewed Boeing Alert Service Bulletin 747-53A2605, Revision 1, dated May 27, 2010, which is not applicable to Model 747SP airplanes. Boeing Alert Service Bulletin 747-53A2605, Revision 1, dated May 27, 2010, describes procedures for modification of the left- and right-side tension tie structure or tension tie and frame structure at certain body stations, repetitive inspections of the modified area, repetitive detailed inspections for cracks on the unmodified area of the tension tie, and repair if necessary.

FAA's Determination and Requirements of the Proposed AD

We have evaluated all pertinent information and identified an unsafe condition that is likely to develop on other airplanes of the same type design. For this reason, we are proposing this AD, which would supersede AD 2006-01-07, Amendment 39-14446 (71 FR 1947, January 12, 2006), and would retain the requirements of the existing AD with a reduced compliance time for certain airplanes. This proposed AD would also require accomplishing the actions specified in Boeing Alert Service Bulletin 747-53A2502, Revision 1, dated June 17, 2010; and Boeing Alert Service Bulletin 747-53A2605, Revision 1, dated May 27, 2010; as described previously. Doing the modification specified in this proposed AD ends the existing repetitive inspections in the existing AD.

No Repetitive Intervals for Post-Modification Inspections of the Modified Areas

Boeing Alert Service Bulletin 747-53A2605, Revision 1, dated May 27, 2010, specifies to contact Boeing for the intervals for the repetitive post-modification inspections of the modified areas, nor does this proposed AD include those intervals. Post-modification inspection guidance for paragraph (j)(2) of this proposed AD may be defined in an approved alternative method of compliance (AMOC).

Changes to Existing AD

In this NPRM, we have identified the legal name of the manufacturer as published in the most recent type certificate data sheet for the affected airplane models.

Boeing Commercial Airplanes has received an Organization Designation Authorization (ODA), which replaces the previous designation as a Delegation Option Authorization (DOA) holder. We have revised paragraph (n) of this proposed AD to add delegation of authority to Boeing Commercial Airplanes ODA to approve an alternative method of compliance for certain repairs required by this AD.

We have added a new paragraph (d) to this NPRM to provide the Air Transport Association (ATA) of America subject code 53: Fuselage. This code is added to make this proposed AD parallel with other new AD actions. We have re-identified subsequent paragraphs accordingly.

Differences Between the Proposed AD and the Service Information

The service bulletins specify to contact the manufacturer for instructions on how to repair certain conditions, but this proposed AD would require repairing those conditions in one of the following ways:

• In accordance with a method that we approve; or

• Using data that meet the certification basis of the airplane, and that have been approved by the Boeing Commercial Airplanes ODA whom we have authorized to make those findings.

Boeing Alert Service Bulletin 747-53A2605, Revision 1, dated May 27, 2010, includes a modification for all airplanes except for Model 747SP airplanes. This proposed AD requires that modification for Model 747SP airplanes.

Costs of Compliance

There are about 276 airplanes of the affected design in the worldwide fleet. The following table provides the estimated costs for U.S. operators to comply with this proposed AD.

Estimated Costs
Action | Work hours | Average labor rate per hour | Parts | Cost per airplane | Number of U.S.-registered airplanes | Fleet cost
Inspection (required by AD 2006-01-07, Amendment 39-14446 (71 FR 1947, January 12, 2006)) | 8 per tension tie location, between 8 and 12 tension tie locations per airplane, depending on airplane configuration | $85 | $0 | Between $5,440 and $8,160 per inspection cycle | 141 | Between $767,040 and $1,150,560 per inspection cycle.
One-time inspection (new proposed action for Group 2 airplanes) | 6 | 85 | None | 510 | 86 | $43,860.
Modification (new proposed action) | Between 30 and 85, depending on airplane configuration | 85 | Between $18,657 and $635,004 | Between $21,207 and 642,229 | 86 | Between $1,823,802 and $55,231,694.
Inspection for unmodified area | 2 per tension tie location, between 8 and 12 tension tie locations per airplane, depending on airplane configuration | 85 | None | Between $1,360 and $2,040 | 86 | Between $116,960 and $175,440.
Inspection for modified area | 2 per tension tie location, between 8 and 12 tension tie locations per airplane, depending on airplane configuration | 85 | None | Between $1,360 and $2,040 | 86 | Between $116,960 and $175,440.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866;

(2) Is not a “significant rule” under the DOT Regulatory Policies and Procedures (44 FR 11034, February 26, 1979); and

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14446 (71 FR 1947, January 12, 2006) and adding the following new AD:

The Boeing Company: Docket No. FAA-2011-0991; Directorate Identifier 2010-NM-134-AD.

Comments Due Date

(a) The FAA must receive comments on this AD action by November 7, 2011.

Affected ADs

(b) This AD supersedes AD 2006-01-07, Amendment 39-14446 (71 FR 1947, January 12, 2006).

Applicability

(c) This AD applies to The Boeing Company Model 747-100, 747-100B, 747-200B, 747-200C, 747-200F, 747-400F, 747SR, and 747SP series airplanes, certificated in any category, as identified in Boeing Alert Service Bulletin 747-53A2502, Revision 1, dated June 17, 2010.

Subject

(d) Air Transport Association (ATA) of America Code 53: Fuselage.

Unsafe Condition

(e) This proposed AD results from reports that certain airplanes have tension ties that are susceptible to widespread fatigue damage. This proposed AD also results from reports of cracks on the forward and aft tension tie channels at station (STA) 740 and STA 760, and a determination that initial inspection compliance times need to be reduced. The Federal Aviation Administration is issuing this AD to prevent tension ties from becoming severed or disconnected from the frames, which could lead to rapid in-flight decompression.

Compliance

(f) You are responsible for having the actions required by this AD performed within the compliance times specified, unless the actions have already been done.

Restatement of Requirements of AD 2006-01-07, Amendment 39-14446 (71 FR 1947, January 12, 2006), With Reduced Compliance Time for Certain Airplanes

Repetitive Inspections and Corrective Actions

(g) For Group 1, and Groups 3 through 6 airplanes identified in Boeing Special Attention Service Bulletin 747-53-2502, dated April 21, 2005; at the applicable time in paragraph (g)(1) or (g)(2) of this AD: Do detailed and high-frequency eddy current inspections for cracking of each affected tension tie and of the surrounding structure. If any cracking is found: Before further flight, do all applicable corrective and related investigative actions. Do all actions in accordance with the Accomplishment Instructions of Boeing Special Attention Service Bulletin 747-53-2502, dated April 21, 2005; or Boeing Alert Service Bulletin 747-53A2502, Revision 1, dated June 17, 2010. Where Boeing Special Attention Service Bulletin 747-53-2502, dated April 21, 2005; or Boeing Alert Service Bulletin 747-53A2502, Revision 1, dated June 17, 2010; specifies to contact Boeing for repair instructions: Before further flight, repair the area using a method approved in accordance with paragraph (n) of this AD. As of the effective date of this AD, only Boeing Alert Service Bulletin 747-53A2502, Revision 1, dated June 17, 2010, may be used for the actions required in this paragraph.

(1) For airplanes identified in Boeing Special Attention Service Bulletin 747-53-2502, dated April 21, 2005, as Groups 1, 3, and 6 airplanes: Do the first inspections before the accumulation of 20,000 total flight cycles, or within 1,000 flight cycles after February 16, 2006 (the effective date of AD 2006-01-07, Amendment 39-14446 (71 FR 1947, January 12, 2006)), whichever occurs later; and repeat the inspections thereafter at intervals not to exceed 4,000 flight cycles until the modification required by paragraph (j) of this AD is accomplished.

(2) For airplanes identified in Boeing Special Attention Service Bulletin 747-53-2502, dated April 21, 2005, as Group 4 and 5 airplanes: Do the first inspections before the accumulation of 17,000 total flight cycles, or within 1,000 flight cycles after February 16, 2006, whichever occurs later; and repeat the inspections thereafter at intervals not to exceed 3,000 flight cycles until the modification required by paragraph (j) of this AD is accomplished.

Inspection for Group 2 Airplanes With Reduced Compliance Times

(h) For Group 2 airplanes identified in Boeing Alert Service Bulletin 747-53A2502, Revision 1, dated June 17, 2010: At the applicable times specified in paragraphs (h)(1) and (h)(2) of this AD, do detailed and high-frequency eddy current inspections for cracking of each affected tension tie and of the surrounding structure, in accordance with the Accomplishment Instructions of Boeing Special Attention Service Bulletin 747-53-2502, dated April 21, 2005; or Boeing Alert Service Bulletin 747-53A2502, Revision 1, dated June 17, 2010. If any cracking is found: Before further flight, do all applicable corrective and related investigative actions. Do all actions in accordance with the Accomplishment Instructions of Boeing Special Attention Service Bulletin 747-53-2502, dated April 21, 2005; or Boeing Alert Service Bulletin 747-53A2502, Revision 1, dated June 17, 2010. Where Boeing Special Attention Service Bulletin 747-53-2502, dated April 21, 2005; or Boeing Alert Service Bulletin 747-53A2502, Revision 1, dated June 17, 2010; specify to contact Boeing for repair instructions: Before further flight, repair the area using a method approved in accordance with paragraph (n) of this AD. As of the effective date of this AD, only Boeing Alert Service Bulletin 747-53A2502, Revision 1, dated June 17, 2010, may be used. Repeat the inspections thereafter at intervals not to exceed 3,000 flight cycles until the modification required by paragraph (j) of this AD is accomplished.

(1) For STA 780 through 940: Before the accumulation of 17,000 total flight cycles, or within 1,000 flight cycles after February 16, 2006, whichever occurs later.

(2) For STA 720, 740, and 760: At the earlier of the times of paragraph (h)(2)(i) or (h)(2)(ii).

(i) Before the accumulation of 17,000 total flight cycles, or within 1,000 flight cycles after February 16, 2006, whichever occurs later.

(ii) Before the accumulation of 8,000 total flight cycles, or within 1,000 flight cycles after the effective date of this AD, whichever occurs later.

New Requirements of This AD

One-Time Inspection for Group 2 Airplanes

(i) For airplanes identified in Boeing Alert Service Bulletin 747-53A2502, Revision 1, dated June 17, 2010, as Group 2 airplanes: Before the accumulation of 8,000 total flight cycles, or within 1,000 flight cycles after the effective date of this AD, whichever occurs later: Do a general visual inspection for correct configuration, as identified in Boeing Alert Service Bulletin 747-53A2502, Revision 1, dated June 17, 2010, of each affected tension tie and of the surrounding structure, in accordance with the Accomplishment Instructions of Boeing Alert Service Bulletin 747-53A2502, Revision 1, dated June 17, 2010.

(1) If all tension ties match the correct configurations specified in the Accomplishment Instructions of Boeing Alert Service Bulletin 747-53A2502, Revision 1, dated June 17, 2010, no further work is required by this paragraph.

(2) If any incorrect configuration is found, before further flight, do detailed and open fastener-hole HFEC inspections for cracks in the tension tie and frame, in accordance with the Accomplishment Instructions of Boeing Alert Service Bulletin 747-53A2502, Revision 1, dated June 17, 2010.

(i) If no crack is found during the inspection required by paragraph (i)(2) of this AD, before further flight, install the correct configuration for the tension ties at locations where the incorrect configuration was found, using a method approved in accordance with the procedures specified in paragraph (n) of this AD.

(ii) If any crack is found during the inspection required by paragraph (i)(2) of this AD, before further flight, do the actions in paragraphs (i)(2)(ii)(A) and (i)(2)(ii)(B) of this AD.

(A) Repair the crack in accordance with the Accomplishment Instructions of Boeing Alert Service Bulletin 747-53A2502, Revision 1, dated June 17, 2010, except where Boeing Alert Service Bulletin 747-53A2502, Revision 1, dated June 17, 2010, specifies to contact Boeing for appropriate action: Before further flight, repair the crack using a method approved in accordance with the procedures specified in paragraph (n) of this AD.

(B) Install the correct configuration for the tension ties at locations where the incorrect configuration was found, using a method approved in accordance with the procedures specified in paragraph (n) of this AD.

Modification

(j) Before the accumulation of 30,000 total flight cycles, or within 3,000 flight cycles after the effective date of this AD, whichever occurs later, modify the left- and right-side tension tie structure or left- and right-side tension tie and frame structure, at specified stations, in accordance with the applicable method specified in paragraph (j)(1) or (j)(2) of this AD. Accomplishment of the modification in this paragraph terminates the repetitive inspection requirements in paragraphs (g)(1), (g)(2), and (h) of this AD.

(1) For airplanes identified in Boeing Alert Service Bulletin 747-53A2605, Revision 1, dated May 27, 2010: Do the modification, in accordance with the Accomplishment Instructions of Boeing Alert Service Bulletin 747-53A2605, Revision 1, dated May 27, 2010.

(2) For airplanes not identified in Boeing Alert Service Bulletin 747-53A2605, Revision 1, dated May 27, 2010: Do the modification, using a method approved in accordance with paragraph (n) of this AD.

Note 1: For airplanes identified in paragraph (j)(2) of this AD, post-modification inspection guidance may be defined in an approved alternative method of compliance (AMOC) for paragraph (j)(2) of this AD.

Post-Modification Inspection of the Modified Areas

(k) For airplanes identified in paragraph (j)(1) of this AD, within 20,000 flight cycles after doing the modification required by paragraph (j) of this AD, do an inspection for cracks of the modified areas of the left- and right-side tension tie structure and frame structure, in accordance with a method approved with the procedures specified in paragraph (n) of this AD. If any crack is found during any inspection required by this paragraph, before further flight, repair the crack using a method approved in accordance with the procedures specified in paragraph (n) of this AD.

Post-Modification Repetitive Inspections of the Unmodified Areas

(l) For airplanes identified in paragraph (j)(1) of this AD, within 6,000 flight cycles after doing the modification required by paragraph (j) of this AD, do a detailed inspection for cracks on the unmodified areas of the left- and right-side tension tie structure and frame structure, at certain stations, in accordance with the Accomplishment Instructions of Boeing Alert Service Bulletin 747-53A2605, Revision 1, dated May 27, 2010. If any crack is found during any inspection required by this paragraph, before further flight, repair the crack using a method approved in accordance with the procedures specified in paragraph (n) of this AD. Repeat the inspection of the unmodified areas thereafter at intervals not to exceed 6,000 flight cycles.

Note 2: Boeing Alert Service Bulletin 747-53A2605, Revision 1, dated May 27, 2010, refers to Section 51-10-02 of the Boeing 747-400F Structural Repair Manual (SRM) and Section 51-10-01 of the Boeing 747-100/200/300 SRM as additional sources of guidance for removing small cracks and fatigue damage material from the existing holes in the unmodified center section of the tension tie channels. Where those SRM sections state that “zero-timing must only be used where specifically permitted in an SRM chapter-section-repair,” this AD allows the zero-timing procedures specified in those SRM sections.

Credit for Actions Accomplished in Accordance With Previous Service Information

(m) Actions done in accordance with Boeing Alert Service Bulletin 747-53A2605, dated October 8, 2009, before the effective date of this AD are acceptable for compliance with the corresponding actions required by paragraphs (j), (k), and (l) of this AD.

Alternative Methods of Compliance (AMOCs)

(n)(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane, and the approval must specifically refer to this AD.

(4) Certain actions required by paragraph (g) of this AD are approved as AMOCs for the requirements specified in paragraphs (n)(4)(i), (n)(4)(ii), and (n)(4)(iii) of this AD. All provisions of the referenced ADs in paragraphs (n)(4)(i), (n)(4)(ii), and (n)(4)(iii) of this AD, including applicable post-modification inspection thresholds, remain fully applicable and must be complied with.

(i) Repairs or modifications of the aft tension tie channels done in accordance with this AD are AMOCs for the repair requirements of paragraph A. of AD 84-19-01, Amendment 39-4913 (49 FR 35365, September 17, 1984), and paragraphs (a)(2) and (b)(2) of AD 94-13-06, Amendment 39-8946 (59 FR 32879, June 27, 1994).

(ii) The inspection requirements of this AD are AMOCs for the post-modification inspection requirements of paragraph B. of AD 84-19-01, Amendment 39-4913 (49 FR 35365, September 17, 1984), and paragraph (b) of AD 94-13-06, Amendment 39-8946 (59 FR 32879, June 27, 1994).

(iii) The inspection requirements of this AD are AMOCs for the inspections of Structural Significant Item (SSI) F-19A of Boeing Supplemental Structural Inspection Document D6-35022, Revision G, dated December 2000, as required by paragraphs (h) and (i) of AD 2004-07-22 R1, Amendment 39-15326 (73 FR 1052, January 7, 2008), corrected on February 14, 2008 (73 FR 8589).

Related Information

(o) For more information about this AD, contact Steven Fox, Senior Aerospace Engineer, Airframe Branch, ANM-120S, FAA, Seattle ACO, 1601 Lind Avenue, SW., Renton, Washington 98057-3356; telephone (425) 917-6425; fax (425) 917-6590; e-mail: steven.fox@faa.gov.

(p) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Issued in Renton, Washington, on September 14, 2011.
Ali Bahrami,
Manager, Transport Airplane Directorate, Aircraft Certification Service.

[FR Doc. 2011-24356 Filed 9-21-11; 8:45 am]

BILLING CODE 4910-13-P